DEPARTMENT OF HEALTH AND HUMAN SERVICES

National Institutes of Health

National Institute on Aging; Amended Notice of Meeting

Notice is hereby given of a change in the meeting of the National Institute on Aging Special Emphasis Panel, October 25, 2022, 12:00 p.m. to October 25, 2022, 03:00 p.m., National Institute on Aging, Gateway Building, 7201 Wisconsin Avenue, Bethesda, MD 20892 which was published in the Federal Register on September 20, 2022, 317459.

The meeting notice is amended to change the date of the meeting from October 25, 2022, to November 10, 2022. The time of the meeting will change to 2:00 p.m. to 5:00 p.m. The meeting is Closed to the public.

Dated: September 30, 2022.
Miguelina Perez,
Program Analyst, Office of Federal Advisory Committee Policy.

[FR Doc. 2022-21681 Filed 10-5-22; 8:45 am]

BILLING CODE 4140-01-P